SECURITIES AND EXCHANGE COMMISSION

[Release No. 34-45211; File No. SR-Amex-2001-98]

Self-Regulatory Organizations; Order Approving a Proposed Rule Change by the American Stock Exchange LLC to Reinstate and Increase Options Transaction Charges

December 28, 2001.

On November 8, 2001, pursuant to section 19(b)(1) of the Securities Exchange Act of 1934 ¹ the American Stock Exchange LLC (“Amex” or “Exchange”) filed with the Securities and Exchange Commission (“Commission”) the proposed rule change to reinstate and increase options transaction charges in select products. In April 2000, the Exchange eliminated transaction, floor brokerage, and clearance charges for customer equity option trades. At that time, fees charged to customers for transactions in index options remained unchanged at $0.10 per contract. The Exchange proposes to increase the fees charged to (1) customers for transactions in index options from $0.10 to $0.15; and (2) member firms and non-member broker dealers for transactions in index options from $0.11 to $0.15. In addition, the Exchange is proposing to reinstate a customer transaction charge for equity options on the S&P 100 iShares. The transaction charge will be $0.15 per contract side.

¹ 15 U.S.C. 78s(b)(1).

The proposed rule change was published for comment in the Federal Register.² The Commission received no comments on the proposal.

² Securities Exchange Act Release No. 45068 (Nov. 11, 2001), 66 FR 58765 (Nov. 23, 2001).

The Commission finds the proposed rule change is consistent with section 6(b) of the Act ³ in general and furthers the objectives of section 6(b)(4) of the Act ⁴ in particular in that it is designed to provide for the equitable allocation of reasonable dues, fees, and other charges among its members and issuers and other persons using its facilities.⁵ According to the Amex, these increases are necessary due to the increasing costs incurred in developing and implementing new technology for the fast and efficient trading of options.

³ 15 U.S.C. 78f(b).

⁴ 15 U.S.C. 78f(b)(4).

⁵ In approving this rule, the Commission has considered the proposed rule's impact on efficiency, competition, and capital formation. 15 U.S.c. 78c(f).

It is therefore ordered, pursuant to section 19(b)(2) of the Act,⁶ that the proposed rule change (SR-Amex-2001-98) be, and hereby is, approved.⁷

⁶ 15 U.S.C. 78s(b)(2).

⁷ 17 CFR 200.30-30(a)(12).

For the Commission, by the Division of Market Regulation, pursuant to delegated authority.
Margaret H. McFarland,
Deputy Secretary.

[FR Doc. 02-285 Filed 1-7-02; 8:45 am]

BILLING CODE 8010-01-M